FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 7, 2015.

A. Federal Reserve Bank of Minneapolis (Jacquelyn K. Brunmeier, Assistant Vice President) 90 Hennepin Avenue, Minneapolis, Minnesota 55480-0291:

1. Mary Ellen Organ, Northfield, Minnesota, individually, Erick Organ, Pine Island, Minnesota, and Kenneth Organ, Northfield, Minnesota; all as part of the Organ Family Group, to retain voting shares of West Concord Bancshares, Inc., and thereby indirectly retain voting shares of Farmers State Bank of West Concord, both in West Concord, Minnesota.

B. Federal Reserve Bank of Kansas City (Dennis Denney, Assistant Vice President) 1 Memorial Drive, Kansas City, Missouri 64198-0001:

1. Susan Chrastil, Crete, Nebraska; to retain voting shares of TCM Company, Crete, Nebraska, and thereby indirectly retain voting shares of City Bank & Trust Co., Lincoln, Nebraska.

Board of Governors of the Federal Reserve System, June 17, 2015.
Michael J. Lewandowski,
Associate Secretary of the Board.

[FR Doc. 2015-15258 Filed 6-19-15; 8:45 am]

BILLING CODE 6210-01-P